DEPARTMENT OF EDUCATION

Office of Safe and Drug-Free Schools; Overview Information; Readiness and Emergency Management for Schools; Notice Inviting Applications for New Awards for Fiscal Year (FY) 2009

Catalog of Federal Domestic Assistance (CFDA) Number: 84.184E.

Dates:

Applications Available: March 11, 2009.

Deadline for Transmittal of Applications: April 14, 2009.

Deadline for Intergovernmental Review: June 15, 2009.

Full Text of Announcement

I. Funding Opportunity Description

Purpose of Program: Past emergencies, such as the events of September 11, 2001, Hurricanes Katrina and Rita, and emergencies related to other natural and man-made hazards, reinforce the need for schools and communities to plan for traditional crises and emergencies, as well as other catastrophic events. The Readiness and Emergency Management for Schools (REMS) grant program provides funds to local educational agencies (LEAs) to establish an emergency management process that focuses on reviewing and strengthening emergency management plans, within the framework of the four phases of emergency management (Prevention-Mitigation, Preparedness, Response, and Recovery). The program also provides resources to LEAs to provide training for staff on emergency management procedures and requires that LEAs develop comprehensive all-hazards emergency management plans in collaboration with community partners, including local law enforcement; public safety, public health, and mental health agencies; and local government.

Priorities: These priorities are from the notice of final priorities and requirements for this program, published elsewhere in this issue of the Federal Register.

Absolute Priority: For FY 2009 and any subsequent year in which we make awards from the list of unfunded applicants from this competition, this priority is an absolute priority. Under 34 CFR 75.105(c)(3) we consider only applications that meet this priority.

This priority is:

Develop and Enhance Local Emergency Management Capacity

Under this priority, we support LEA projects designed to create, strengthen, or improve emergency management plans at the LEA and school-building levels and build the capacity of LEA staff so that the LEA can continue the implementation of key emergency management functions after the period of Federal funding. Projects must include a plan to create, strengthen, or improve emergency management plans, at the LEA and school-building levels, and within the framework of the four phases of emergency management: Prevention-Mitigation, Preparedness, Response, and Recovery. Projects must also include: (1) Training for school personnel in emergency management procedures; (2) coordination, and the use of partnerships, with local law enforcement, public safety or emergency management, public health, and mental health agencies, and local government to assist in the development of emergency management plans at the LEA and school-building levels; (3) a plan to sustain the local partnerships after the period of Federal assistance; (4) a plan for communicating school emergency management policies and reunification procedures for parents and guardians and their children following an emergency; and (5) a written plan for improving LEA capacity to sustain the emergency management process through ongoing training and the continual review of policies and procedures.

Competitive Preference Priorities: For FY 2009 and any subsequent year in which we make awards from the list of unfunded applicants from this competition, these priorities are competitive preference priorities. Under 34 CFR 75.105(c)(2)(i) we award an additional 10 points to an application that meets Priority 1 and we award an additional 5 points to an application that meets Priority 2. Applications that meet both Priorities 1 and 2 will receive points only under Priority 1.

These priorities are:

Priority 1—LEAs That Have Not Previously Received a Grant Under the REMS Program (CFDA Number 84.184E) and Are Located in an Urban Areas Security Initiative Jurisdiction

Under this priority, we give a competitive preference to applications from LEAs that (1) have not yet received a grant under this program (CFDA Number 84.184E) and (2) are located in whole or in part within Urban Areas Security Initiative (UASI) jurisdictions, as determined by the U.S. Department of Homeland Security (DHS). Applicants, including educational services agencies (ESAs), must meet both of these criteria in order to meet this priority. Under a consortium application, all members of the LEA consortium, including any ESAs, must meet both criteria to meet this priority.

Because DHS's determination of UASI jurisdictions may change from year to year, applicants under this priority must refer to the most recent list of UASI jurisdictions published by DHS when submitting their applications.

Note: The Governor of each State has designated a State Administrative Agency (SAA) as the entity responsible for applying for and administering funds under the Department of Homeland Security Grant Program (which includes the UASI program). The SAA is also responsible for defining the geographic borders for jurisdictions included in the UASI program. Guidance on jurisdiction definitions and the most recent list of UASI jurisdictions (see pages 22 and 23) can be found at http://www.fema.gov/pdf/government/grant/hsgp/fy09_hsgp_guidance.pdf.

Priority 2—LEAs That Have Not Previously Received a Grant Under the REMS Program (CFDA Number 84.184E)

Under this priority, we give competitive preference to applications from LEAs that have not previously received a grant under this program (CFDA Number 84.184E). Applicants, including educational service agencies (ESAs), that have received funding under this program directly, or as the lead agency or as a partner in a consortium application under this program, will not meet this priority. Under a consortium application, all members of the LEA consortium must meet this criterion to meet this priority.

Application Requirements: The following requirements apply to all applications submitted under this competition:

1. Partner Agreements

To be considered for a grant award, an applicant must include in its application an agreement that details the participation of each of the following five community-based partners: The law enforcement agency, the public safety or emergency management agency, the public health agency, the mental health agency, and the head of the applicant's local government (for example the mayor, city manager, or county executive). The agreement must include a description of each partner's roles and responsibilities in improving and strengthening emergency management plans at the LEA and school-building levels, a description of each partner's commitment to the continuation and continuous improvement of emergency management plans at the LEA and school-building levels, and the signature of an authorized representative of the LEA and each partner acknowledging the agreement. For consortium applications, each LEA to be served by the grant must submit a complete set of partner agreements with the signature of an authorized representative of the LEA and each corresponding partner acknowledging the agreement.

If one or more of the five partners listed in this requirement is not present in the applicant's community, or cannot feasibly participate, the agreement must explain the absence of each missing partner. To be considered eligible for funding, however, an application must include a signed agreement between the LEA, a law enforcement partner, and at least one of the other required partners (public safety or emergency management agency, public health agency, mental health agency, or the head of the local government).

Applications that fail to include the required agreement, including information on partners' roles and responsibilities and on their commitment to continuation and continuous improvement (with signatures and explanations for missing signatures as specified above), will not be read.

Although this program requires partnerships with other parties, administrative direction and fiscal control for the project must remain with the LEA.

2. Coordination With State or Local Homeland Security Plan

All emergency management plans receiving funding under this program must be coordinated with the Homeland Security Plan of the State or locality in which the LEA is located. To ensure that emergency services are coordinated, and to avoid duplication of effort within States and localities, applicants must include in their applications an assurance that the LEA will coordinate with and follow the requirements of its State or local Homeland Security Plan for emergency services and initiatives.

3. Infectious Disease Plan

To be considered for a grant award, applicants must agree to develop a written plan designed to prepare the LEA for a possible infectious disease outbreak, such as pandemic influenza. Plans must address the four phases of emergency management (Prevention-Mitigation, Preparedness, Response, and Recovery) and include a plan for disease surveillance (systematic collection and analysis of data that lead to action being taken to prevent and control a disease), school closure decision making, business continuity (processes and procedures established to ensure that essential functions can continue during and after a disaster), and continuation of educational services.

4. Food Defense Plan

To be considered for a grant award, applicants must agree to develop a written food defense plan that includes the four phases of emergency management (Prevention-Mitigation, Preparedness, Response, and Recovery) and is designed to safeguard the LEA's food supply, including all food storage and preparation facilities and delivery areas within the LEA.

5. Individuals With Disabilities

Applicants must agree to develop plans that take into consideration the communication, medical, and evacuation needs of individuals with disabilities within the schools in the LEA.

6. Implementation of the National Incident Management System (NIMS)

Applicants must agree to implement their grant in a manner consistent with the implementation of the NIMS in their communities. Applicants must include in their applications an assurance that they have met, or will complete, all current NIMS requirements by the end of the grant period.

Because DHS' determination of NIMS requirements may change from year to year, applicants must refer to the most recent list of NIMS requirements published by DHS when submitting their applications. Information about the FY 2008 NIMS requirements for tribal governments and local jurisdictions, including LEAs, can be found at: http://www.fema.gov/emergency/nims/CurrentYearGuidance.shtm.

Note: An LEA's NIMS compliance must be achieved in close coordination with the local government and with recognition of the first-responder capabilities held by the LEA and the local government. As LEAs are not traditional response organizations, first-responder services will typically be provided to LEAs by local fire and rescue departments, emergency medical service providers, and law enforcement agencies. This traditional relationship must be acknowledged in achieving NIMS compliance in an integrated NIMS compliance plan for the local government and the LEA. LEA participation in the NIMS preparedness program of the local government is essential in ensuring that first-responder services are delivered to schools in a timely and effective manner. Additional information about NIMS implementation is available at: http://www.fema.gov/emergency/nims.

Program Authority: 20 U.S.C. 7131.

Applicable Regulations: (a) The Education Department General Administrative Regulations (EDGAR) in 34 CFR parts 75, 77, 79, 80, 81, 82, 84, 85, 97, 98, 99, and 299. (b) The notice of final priorities and requirements, published elsewhere in this issue of the Federal Register. (c) The notice of final eligibility requirement for the Office of Safe and Drug-Free Schools discretionary grant programs published in the Federal Register on December 4, 2006 (71 FR 70369).

Note: The regulations in 34 CFR part 79 apply to all applicants except federally recognized Indian tribes.

II. Award Information

Type of Award: Discretionary grants.

Estimated Available Funds: $26,000,000. The actual level of funding, if any, depends on final Congressional action. However, we are inviting applications to allow enough time to complete the grant process if Congress appropriates funds to this program. Contingent upon the availability of funds and the quality of applications, we may make additional awards later in FY 2009 and in FY 2010 from the list of unfunded applicants from this competition.

Estimated Range of Awards: $100,000-$500,000.

Estimated Average Size of Awards: $100,000 for a small-size LEA (1-20 education facilities); $250,000 for a medium-size LEA (21-75 education facilities); and $500,000 for a large-size LEA (76 or more education facilities).

Estimated Number of Awards: 104.

Note: The Department is not bound by any estimates in this notice.

Project Period: Up to 18 months.

III. Eligibility Information

1. Eligible Applicants

LEAs, including charter schools that are considered LEAs under State law, that do not currently have an active grant under the REMS program (CFDA Number 84.184E). For the purpose of this eligibility requirement, a grant is considered active until the end of the grant's project or funding period, including any extension of those periods that extend the grantee's authority to obligate funds. This eligibility requirement is from the notice of final eligibility requirement published in the Federal Register on December 4, 2006 (71 FR 70369).

2. Cost Sharing or Matching

This competition does not require cost sharing or matching.

3. Other

(a) Equitable Participation by Private School Children and Teachers

Section 9501 of the Elementary and Secondary Education Act of 1965, as amended (ESEA), requires that State educational agencies (SEAs), LEAs, or other entities receiving funds under the Safe and Drug-Free Schools and Communities Act provide for the equitable participation of private school children, their teachers, and other educational personnel in private schools located in areas served by the grant recipient. In order to ensure that grant program activities address the needs of private school children, LEAs must engage in timely and meaningful consultation with private school officials during the design and development of the program. This consultation must take place before any decision is made that affects the opportunities of eligible private school children, teachers, and other education personnel to participate.

In order to ensure equitable participation of private school children, teachers, and other educational personnel, an LEA must consult with private school officials on such issues as: Hazards/vulnerabilities unique to private schools in the LEA's service area, training needs, and existing emergency management plans and resources already available at private schools.

(b) Maintenance of Effort

Section 9521 of the ESEA permits LEAs to receive a grant only if the SEA finds that the combined fiscal effort per student or the aggregate expenditures of the LEA and the State with respect to the provision of free public education by the LEA for the preceding fiscal year was not less than 90 percent of the combined fiscal effort or aggregate expenditures for the second preceding fiscal year.

IV. Application and Submission Information

1. Address To Request Application Package

You can obtain an application package via the Internet or from the Education Publications Center (ED Pubs). To obtain a copy via the Internet, use the following address: http://www.ed.gov/fund/grant/apply/grantapps/index.html. To obtain a copy from ED Pubs, write, fax, or call the following: Education Publications Center, P.O. Box 1398, Jessup, MD 20794-1398. Telephone, toll free: 1-877-433-7827. Fax: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify this program or competition as follows: CFDA Number 84.184E.

Individuals with disabilities can obtain a copy of the application package in an accessible format (e.g., braille, large print, audiotape, or computer diskette) by contacting the person or team listed under Accessible Format in section VIII of this notice.

2. Content and Form of Application Submission

Requirements concerning the content of an application, together with the forms you must submit, are in the application package for this competition.

3. Submission Dates and Times

Applications Available: March 11, 2009.

Deadline for Transmittal of Applications: April 14, 2009.

Applications for grants under this competition may be submitted electronically using the Grants.gov Apply site (http://Grants.gov), or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: June 15, 2009.

4. Intergovernmental Review

This competition is subject to Executive Order 12372 and the regulations in 34 CFR part 79. Information about Intergovernmental Review of Federal Programs under Executive Order 12372 is in the application package for this competition.

5. Funding Restrictions

We reference regulations outlining funding restrictions in the Applicable Regulations section of this notice.

6. Other Submission Requirements

Applications for grants under this competition may be submitted electronically or in paper format by mail or hand delivery.

a. Electronic Submission of Applications

We are participating as a partner in the Governmentwide Grants.gov Apply site. The REMS grant competition, CFDA number 84.184E, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the REMS grant competition at http://www.Grants.gov. You must search for the downloadable application package for this competition by the CFDA number. Do not include the CFDA number's alpha suffix in your search (e.g., search for 84.184, not 84.184E).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications.

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the following address: U.S. Department of Education, Application Control Center, Attention: (CFDA Number 84.184E), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.184E), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For this competition, you must also submit an interim report nine months after the award date. For specific requirements on reporting, please go to http://www.ed.gov/fund/grant/apply/appforms/appforms.html.

4. Performance Measure: We have identified the following key Government Performance and Results Act of 1993 (GPRA) performance measure for assessing the effectiveness of the REMS grant program: The average number of National Incident Management System (NIMS) course completions by key personnel at the start of the grant compared to the average number of NIMS course completions by key personnel at the end of the grant.

This GPRA measure constitutes the Department's indicator of success for this program. Applicants for a grant under this program are advised to give careful consideration to this measure in designing their proposed project, including considering how data for the measure will be collected. Grantees will be required to collect and report, in their interim and final performance reports, baseline data and data on their progress with regard to this measure.

VII. Agency Contact

For Further Information Contact: Sara Strizzi, U.S. Department of Education, 1391 Speer Boulevard, Suite 800, Denver, CO 80204-2512. Telephone: (303) 346-0924 or by e-mail: sara.strizzi@ed.gov.

If you use a TDD, call the Federal Relay Service, toll free, at 1-800-877-8339.

VIII. Other Information

Accessible Format: Individuals with disabilities can obtain this document and a copy of the application package in an accessible format (e.g., Braille, large print, audiotape, or computer diskette) on request to the program contact person listed under For Further Information Contact: in section VII in this notice.

Electronic Access to this Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Delegation of Authority: The Secretary of Education has delegated authority to William Modzeleski, Acting Assistant Deputy Secretary for the Office of Safe and Drug-Free Schools to perform the functions of the Assistant Deputy Secretary for Safe and Drug-Free Schools.

Dated: March 4, 2009.
William Modzeleski,
Acting Assistant Deputy Secretary for Safe and Drug-Free Schools.

[FR Doc. E9-5099 Filed 3-10-09; 8:45 am]

BILLING CODE 4000-01-P